DEPARTMENT OF TRANSPORTATION

Federal Aviation Administration

14 CFR Part 39

[Docket No. 2002-CE-07-AD; Amendment 39-13012; AD 2003-01-01]

RIN 2120-AA64

Airworthiness Directives; Raytheon Aircraft Company Beech Models 36, A36, A36TC, B36TC, 58, and 58A Airplanes

AGENCY: Federal Aviation Administration, DOT.

ACTION: Final rule; correction.

SUMMARY: This document makes a correction to Airworthiness Directive (AD) 2003-01-01, which was published in the Federal Register on January 8, 2003 (68 FR 997), and applies to certain Raytheon Aircraft Company (Raytheon) Beech Models 36, A36, A36TC, B36TC, 58, and 58A airplanes. We inadvertently omitted certain regulatory text to remove AD 2000-26-16, Amendment 39-12066, from 14 CFR part 39. This action corrects the regulatory text.

EFFECTIVE DATE: The effective date of this AD remains February 27, 2003.

FOR FURTHER INFORMATION CONTACT: T.N. Baktha, Aerospace Engineer, FAA, Wichita Aircraft Certification Office, 1801 Airport Road, Wichita, Kansas 67209; telephone: (316) 946-4155; facsimile: (316) 946-4407.

SUPPLEMENTARY INFORMATION:

Discussion

On December 30, 2002, FAA issued AD 2003-01-01, Amendment 39-13012 (68 FR 997, January 8, 2003), which applies to certain Raytheon Beech Models 36, A36, A36TC, B36TC, 58, and 58A airplanes. This AD retains the actions required in AD 2000-26-16 and adds additional airplane models to the applicability section of this AD.

Need for the Correction

The FAA inadvertently omitted certain regulatory text to remove AD 2000-26-16, Amendment 39-12066 (66 FR 1253, January 8, 2001) from 14 CFR part 39. This regulatory text is needed to ensure that the affected airplane owners/operators do not have unnecessary action performed on their airplanes.

Correction of Publication

Accordingly, the publication of January 8, 2003 (68 FR 997), of Amendment 39-13012; AD 2003-01-01, which was the subject of FR Doc. 03-148, is corrected as follows:

§ 39.13 [Corrected]

On page 998, in section 39.13 [Amended], 2., replace the current paragraph with the following text: “FAA amends § 39.13 by removing Airworthiness Directive (AD) 2000-26-16, Amendment 39-12066 (66 FR 1253, January 8, 2001), and by adding a new AD to read as follows:

2003-01-01 Raytheon Aircraft Company: Amendment 39-13012; Docket No. 2002-CE-07-AD; Supersedes AD 2000-26-16, Amendment 39-12066.”

Action is taken herein to correct this reference in AD 2003-01-01 and to add this AD correction to section 39.13 of the Federal Aviation Regulations (14 CFR 39.13).

The effective date remains February 27, 2003.

Issued in Kansas City, Missouri, on January 15, 2003.
Michael Gallagher,
Manager, Small Airplane Directorate, Aircraft Certification Service.

[FR Doc. 03-1674 Filed 1-24-03; 8:45 am]

BILLING CODE 4910-13-P